DEPARTMENT OF LABOR

Employment and Training Administration

[TA-W-72,241]

Autodie, LLC Including On-Site and Off-Site Individual Contractors Grand Rapids, MI; Amended Certification Regarding Eligibility To Apply for Worker Adjustment Assistance

In accordance with Section 223 of the Trade Act of 1974, as amended (“Act”), 19 U.S.C. 2273, the Department of Labor issued a Certification of Eligibility to Apply for Worker Adjustment Assistance on March 3, 2010, applicable to workers of Autodie, LLC, including on-site and off-site individual contractors, Grand Rapids, Michigan. The notice will be published soon in the Federal Register.

At the request of the State Agency, the Department reviewed the certification for workers of the subject firm. The workers are engaged in the production of metal forming dies for automobiles and automobile components.

The review shows that on September 24, 2007, a certification of eligibility to apply for adjustment assistance was issued for all workers of Autodie, LLC, Grand Rapids, Michigan, separated from employment on or after July 30, 2007 through September 24, 2009. The notice was published in the Federal Register on October 12, 2007 (72 FR 58131).

In order to avoid an overlap in worker group coverage, the Department is amending the August 31, 2008 impact date established for TA-W-72,241, to read September 25, 2009.

The amended notice applicable to TA-W-72,241 is hereby issued as follows:

All workers of Autodie, LLC, including on-site and off-site individual contractors, Grand Rapids, Michigan, who became totally or partially separated from employment on or after September 25, 2009, through March 3, 2012, and all workers in the group threatened with total or partial separation from employment on date of certification through two years from the date of certification, are eligible to apply for adjustment assistance under Chapter 2 of Title II of the Trade Act of 1974, as amended.

Signed in Washington, DC, this 30th day of March, 2010.
Elliott S. Kushner,
Certifying Officer, Division of Trade Adjustment Assistance.

[FR Doc. 2010-8876 Filed 4-16-10; 8:45 am]

BILLING CODE 4510-FN-P